AGENCY FOR INTERNATIONAL DEVELOPMENT

Privacy Act of 1974, System of Records

AGENCY: United States Agency for International Development.

ACTION: Significantly Altered System of Records Notice.

SUMMARY: The United States Agency for International Development (USAID) is issuing public notice of its intent to alter its system of records maintained in accordance with the Privacy Act of 1974, (5 U.S.C. 552a), as amended, entitled “AID-8 Personnel Security and Suitability Investigatory Records.” USAID is updating this system to reflect the current administrative status and enhance the descriptions of other data elements in order to provide further transparency into USAID's record-keeping practices.

DATES: Public comments must be received on or before May 19, 2008. Unless comments are received that would require a revision, this update to the system of records will become effective on May 27, 2008.

ADDRESSES: You may submit comments:

Paper Comments

• Fax: (703) 666-1466.

• Mail: Chief Privacy Officer, United States Agency for International Development, 1300 Pennsylvania Avenue, NW., Suite 2.12-003, Washington, DC 20523-2120.

Electronic Comments

• Federal eRulemaking Portal: http://www.regulations.gov. Follow the instructions on the Web site for submitting comments.

• E-mail: privacy@usaid.gov.

FOR FURTHER INFORMATION CONTACT: For general questions please contact, Mark Webb, Chief, USAID: Office of Security-Personnel, Information, Domestic Security (SEC/PIDS), (202) 712-0990. For privacy-related issues, please contact Rhonda Turnbow, Deputy Chief Privacy Officer (202) 712-0106.

SUPPLEMENTARY INFORMATION: USAID is undertaking a review of all its system of records notices to ensure that it maintains complete, accurate, timely, and relevant records. As a result of this effort, USAID is proposing to revise its “Personnel Security and Suitability Investigatory Records” system of records notice.

The “Personal Security and Suitability Investigatory Records” are maintained by the USAID Office of Security (SEC). SEC has been charged with providing security services to protect USAID personnel and facilities, safeguarding national security information, and promoting and preserving personal integrity. SEC receives investigative authority from the Office of Management and Budget (OMB) to conduct personnel security investigations for USAID and all other Federal Agencies/Departments permitted under the delegation.

The revisions in this system notice update the authorities for the maintenance of the system, provide a more detailed description of the nature of the records, revises and clarifies the purpose of the system, expands the categories of individuals covered by this system, adds and updates routine use disclosures, updates points of contact and address information, and updates the system locations. Due to the number of revisions USAID has rewritten the system of records notice in its entirety.

In accordance with 5 U.S.C. 552(r), a report concerning this system has been submitted to the Office of Management and Budget and to the requisite congressional committees.

Dated: April 10, 2008.
Philip M. Heneghan,
Chief Privacy Officer.

USAID-008

System name:

Personnel Security and Suitability Investigatory Records.

Security classification:

Secret.

System location:

Records covered by this system are maintained at the following location: USAID Office of Security, 1300 Pennsylvania Avenue, Washington, DC 20523.

Categories of individuals covered by the system:

Categories of individuals maintained in this system are: current and former USAID employees; contractor personnel (Personal Service Contractors and Institutional Contractors); applicants for employment; persons and entities performing business with USAID to include consultants, volunteers, grantees and recipients; individuals employed from other Federal Agencies through a detail, Participating Agency Service Agreement, Resources Support Services Agreement, or the Interagency Personnel Act; paid and unpaid interns; and visitors requiring access to USAID facilities; and the U.S. Citizen and/or non-U.S. Citizen spouse, intended spouse, family members, and/or cohabitants of the above listed individuals.

Categories of records in the system:

Categories of records maintained in this system are: name; address; date of birth; social security number (or other identifying number); citizenship status; information regarding an individual's character, conduct and behavior in the community where they presently live and/or previously lived; arrests and/or convictions; medical records; educational institutions attended; employment records; reports from interviews and other inquiries; electronic communication cables; facility access authorizations/restrictions; photographs; fingerprints; financial records including credit reports; previous clearances levels granted; resulting clearance levels; documentation of release of security files; request for special access; records of infractions; and records of facility accesses and credentials issued.

Authority for maintenance of the system:

Executive Order 10450: Security requirements for Government Employment; Homeland Security Presidential Directive 12 (HSPD-12): Policy for a Common Identification Standard for Federal Employees and Contractors; Executive Order 12968: Access to Classified Information, Executive Order 12333: United States Intelligence Activities, Executive Order 13381: Strengthening Processes Relating to Determining Eligibility for Access to Classified National Security Information, and the Intelligence Reform and Terrorism Prevention Act of 2004 (Public Law 108-458).

Purpose(s):

The Office of Security gathers information in order to create investigative records which are used for processing personal security background investigations to determine eligibility to be awarded a federal security clearance, suitability determination for federal employment, access to federally owned/controlled facilities and access to federally owned/controlled information systems.

Routine Use of Records Maintained in the System, Including Categories of Users and the Purposes of Such Uses:

In addition to USAID's Statement of General Routine Uses, the Office of Security may disclose information in this system as follows:

(1) To consumer reporting agencies in order to obtain consumer credit reports,

(2) To federal, international, state, and local law enforcement agencies, U.S. Government Agencies, courts, the Department of State, Foreign Governments, to the extent necessary to further the purposes of an investigation,

(3) Results of the investigation may be disclosed to the Department of State or other Federal Agencies for the purposes of granting physical and/or logical access to federally owned or controlled facilities and/or information systems in accordance with the requirements set forth in HSPD-12.

Policies and practices for storing, retrieving, accessing, retaining, and disposing of records in the system:

Storage:

Paper copies of information are maintained in file folders and secured using locked cabinets and safes. Electronic copies of information are secured using password protection and role-based protocols.

Retrievability:

Records are retrievable by last name, social security number, and/or USAID assigned case number or other unique identifier attributed to the individual.

Safeguards:

Records are kept within the Office of Security secured space. Access to this space is controlled by electronic card readers, office personnel to control access, visitor escorts policy and supplemented by an armed response force. Administrative safeguards of records are provided through the use of internal Standard Operating Procedures and routine appraisal reviews of the personnel security and suitability program by the Office of Personnel Management.

Retention and disposal:

Records are retained using the approved National Archives Records Administration, Schedule 18—Security and Protective Services Records.

System manager and address:

Director, USAID Office of Security, RRB Suite 2.06A, 1300 Pennsylvania Ave, NW., Washington, DC 20523.

Notification procedures:

Records in this system are exempt from notification, access, and amendment procedures in accordance with subsection (k)(1) and (5) of the 5 U.S.C. 552a, and 22 CFR 215.14. Individuals wishing to inquire whether this system of records contains information about themselves should submit their inquires in writing to the USAID Chief Privacy Officer, 1300 Pennsylvania Avenue, NW., Room 2.12-003, Washington, DC 20523.

The request must be in writing and include the requestor's full name, date of birth, social security number (or other government-issued identity number) and current address. In addition, requestors must also reasonably specify the record contents being sought.

Record access procedures:

Individuals wishing to request access to a non-exempt record must submit the request in writing according to the “Notification Procedures” above. An individual wishing to request access to records in person must provide identity documents, such as a government-issued photo ID, sufficient to satisfy the custodian of the records that the requester is entitled to access.

Contesting record procedures:

An individual requesting amendment of a record maintained on himself or herself must identify the information to be changed and the corrective action sought. Requests must follow the “Notification Procedures” above.

Record source categories:

Information in this system is obtained from the individual on whom it applies; independent sources such as other government agencies, state/local government; law enforcement agencies; credit bureaus; medical providers; educational institutions; private organizations; information provided by personal references; and through source interviews.

Exemptions claimed for the system:

Under the specific authority provided by subsection (k)(1), (3), and (5) of 5 U.S.C. 552a, USAID has promulgated rules specified in 22 CFR 215.14, that exempts this system from notice, access, and amendment requirements of 5 U.S.C. 552a, subsections (c)(3), (d); (e)(1); (e)(4); (G); (H); (I); and (f). The reasons for these exemptions are to maintain confidentiality of sources, National Security, and to prevent frustration of the federal investigative process.

[FR Doc. E8-8240 Filed 4-16-08; 8:45 am]

BILLING CODE 6116-01-P